DEPARTMENT OF COMMERCE

National Oceanic and Atmospheric Administration

RIN 0648-XF177

Pacific Island Pelagic Fisheries; Deep-Set Tuna Longline Fisheries

AGENCY: National Marine Fisheries Service (NMFS), National Oceanic and Atmospheric Administration (NOAA), Commerce.

ACTION: Notice of intent to prepare a Programmatic Environmental Impact Statement; public meetings; request for comments.

SUMMARY: NMFS, in coordination with the Western Pacific Fishery Management Council (Council), intends to prepare a Programmatic Environmental Impact Statement (PEIS) to analyze the environmental impacts of the continued authorization and management of U.S. Pacific Island deep-set tuna longline fisheries under the Fishery Ecosystem Plan for Pelagic Fisheries of the Western Pacific (FEP) and other applicable laws. The analysis would include certain longline fisheries based in Hawaii, the U.S. west coast, American Samoa, Guam, and the Commonwealth of the Northern Mariana Islands (CNMI). Publication of this notice begins the public scoping process to determine the scope of the environmental issues for consideration in the PEIS and allowing interested parties to suggest fishery management issues to be considered in the PEIS. The PEIS is intended to support management of U.S. pelagic longline fisheries.

DATES: See SUPPLEMENTARY INFORMATION section for meeting dates. NMFS must receive comments by April 14, 2017.

ADDRESSES: You may submit comments on this action, identified by NOAA-NMFS-2017-0010, by any of the following methods:

• Electronic Submission: Submit all electronic public comments via the Federal e-Rulemaking Portal. Go to http://www.regulations.gov/docket?D=NOAA-NMFS-2017-0010, click the “Comment Now!” icon, complete the required fields, and enter or attach your comments.

• Mail: Send written comments to Michael D. Tosatto, Regional Administrator, NMFS Pacific Islands Region (PIR), 1845 Wasp Blvd., Bldg. 176, Honolulu, HI 96818.

• Scoping Meeting: Submit written comments at a scoping meeting.

Instructions: You must submit comments by the above methods to ensure that NMFS receives, documents, and considers your comments. NMFS may not consider comments sent by any other method, to any other address or individual, or received after the end of the comment period. NMFS will consider all comments received as part of the public record and will generally post comments for public viewing on www.regulations.gov without change. All personal identifying information (e.g., name, address) submitted voluntarily by the sender will be publicly accessible. Do not submit confidential business information, or otherwise sensitive or protected information. NMFS will accept anonymous comments (enter “N/A” in the required fields if you wish to remain anonymous).

Copies of the FEP, amendments, and previous EISs are available at http://www.regulations.gov/docket?D=NOAA-NMFS-2017-0010.

FOR FURTHER INFORMATION CONTACT: Ariel Jacobs, NMFS, Pacific Islands Regional Office, (808) 725-5182.

SUPPLEMENTARY INFORMATION: NMFS and the Council manage domestic longline fisheries in U.S. Exclusive Economic Zone (EEZ or Federal waters; generally 3-200 nautical miles from shore) around the U.S. Pacific Islands and on the high seas according to the FEP, as authorized by the Magnuson-Stevens Fishery Conservation and Management Act. Shallow-set longline vessels target swordfish near the surface; the shallow-set fisheries are covered by a separate analysis and will not be analyzed under the PEIS. Deep-set vessels target tunas deeper than 100 m. The deep-set fisheries have more participants, greater fishing effort, catch, and higher total revenues than the shallow-set fisheries.

The primary deep-set longline fisheries are in Hawaii and American Samoa. Access to the Hawaii longline fisheries is limited to 164 vessels, of which about 140 are typically active. Of these, about 20 may also shallow-set during any given year. For example, in 2014 there were 1,350 deep-set trips and 81 shallow-set trips. Most vessels with Hawaii longline permits are based in Hawaii, and about 10 operate from ports on the U.S. west coast.

Access to the American Samoa deep-set tuna fishery is also limited, with a maximum of 60 permits divided into four classes based on vessel size. About 30 vessels are active in the American Samoa fishery, mostly Class D (vessels over 70 ft). Historically, a few deep-set tuna longline vessels operated out of Guam and the CNMI, but these fisheries have been inactive since 2011.

Management provisions governing deep-set tuna longline fisheries include, but are not limited to the following requirements:

• Limited entry/access programs;

• Vessel size limits;

• Mandatory permits and reporting of catch and effort;

• Areas where fishing is prohibited;

• Monitoring by on-board observers;

• Satellite-based vessel monitoring system;

• Catch limits or prohibitions for some fish species;

• Gear configuration requirements; and

• Specific methods for handling and releasing bycatch.

See Title 50 of the Code of Federal Regulations Part 665 for most of the regulations. There are additional requirements under other authorities, including the Marine Mammal Protection Act, the Endangered Species Act, marine sanctuaries and monuments, international requirements, and other laws regulating shipping, pollution, etc.

NMFS has evaluated the potential environmental impacts of the deep-set longline fisheries in previous National Environmental Policy Act (NEPA) analyses. In a 2001 EIS, NMFS evaluated the potential impacts on target and non-target stocks, protected marine species (sea turtles, marine mammals, etc.), fishermen, and other parameters. In a 2005 EIS, NMFS evaluated the potential impacts on seabirds. In a 2009 PEIS, NMFS evaluated the potential impacts when the Council and NMFS developed and implemented five geographically based FEPs, including the Pelagic FEP. Additionally, NMFS has evaluated, through separate NEPA analyses, the potential impacts of several FEP amendments and additional regulatory changes since 2009.

In the current PEIS, NMFS and the Council will evaluate the direct, indirect, and cumulative environmental impacts of U.S. Pacific Island deep-set longline fisheries. The proposed federal action is the continued authorization of the U.S. Pacific Island deep-set tuna longline fisheries of American Samoa, Guam, CNMI, and Hawaii, including vessels based on the U.S. west coast, as managed under the FEP and other applicable laws.

The purpose of the proposed action is to maintain viable domestic deep-set tuna longline fisheries, while ensuring the long-term sustainability of fishery resources, and the conservation of protected species and their habitats. The need for the proposed action is to manage deep-set tuna longline fisheries under an adaptive management framework that allows for timely management responses to changing environmental conditions, consistent with domestic and international conservation and management measures.

Although each deep-set longline fishery managed under the FEP generally operates in a similar manner, each fishery is subject to a unique set of conservation and management issues and regulatory framework. Accordingly, the scope of the analyses would be programmatic in nature.

Public Involvement

We are notifying the public that NMFS intends to prepare a PEIS, and will hold a series of public scoping meetings to describe the management of deep-set longline fisheries under the FEP. We invite comments from the public at the early stage of environmental effects analysis planning. Specifically, NMFS is seeking input from the public on issues that NMFS should address in the draft PEIS related to management of the deep-set longline fisheries, including catch of target species (e.g., tunas) and non-target species (e.g., sharks), interactions with protected species, and impacts on the pelagic ecosystem. This will assist NMFS and the Council in determining the scope of the environmental issues, and in developing of a reasonable range of fishery management alternatives to analyze in the draft PEIS.

There will be an opportunity for the public to comment on the draft PEIS when it is published. You may find more information about deep-set tuna longline fisheries managed under the FEP and the progress of the PEIS at http://www.fpir.noaa.gov/SFD/SFD_regs_index.html.

Meetings

NMFS will hold public meetings at the dates and locations below. All meetings will be from 6 p.m. to 9 p.m.

1. Hilo, HI

Tuesday, February 21, 2017, Edith Kanakaole Hall, Room 122, University of Hawaii at Hilo, 200 W. Kawili St., Hilo, HI 96720.

2. Honolulu, HI

Thursday, February 23, 2017, Nuuanu Elementary School, Cafeteria, 3055 Puiwa Ln., Honolulu, HI 96817.

3. Pago Pago, AS

Tuesday, February 28, 2017, Sadie's By the Sea, Upstairs Conference Room, Utulei Beach, Rte. 1, Pago Pago, AS 96799.

4. Tafuna, AS

Wednesday, March 1, 2017, NOAA GMD/PIFSC Compound Tafuna (West Location), 8043 Tasi St., Tafuna, AS 96799.

5. Pago Pago, AS

Thursday, March 2, 2017, PC Mauga Tasi Asuega Fale Tele (East Location), Village of Pago Pago, AS 96799.

6. Saipan, MP

Tuesday, March 7, 2017, Pedro P. Tenorio Multipurpose Center, Beach Rd., Susupe, Saipan, MP 96950.

7. Mangilao, GU

Thursday, March 9, 2017, University of Guam, CNAS 127, University Dr., Mangilao, GU 96923.

Special Accommodations

NMFS will make every attempt to make these meetings accessible to people with disabilities. Direct any requests for sign language interpretation, physical assistance, or other auxiliary aids to Ariel Jacobs at (808) 725-5182 at least five days prior to the meeting date.

Dated: February 7, 2017.
Karen H. Abrams,
Acting Deputy Director, Office of Sustainable Fisheries, National Marine Fisheries Service.

[FR Doc. 2017-02820 Filed 2-10-17; 8:45 am]

BILLING CODE 3510-22-P